DEPARTMENT OF EDUCATION

The Safe and Drug-Free Schools and Communities Advisory Committee

AGENCY: Department of Education, Office of Safe and Drug-Free Schools.

ACTION: Notice of open teleconference meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend.

DATES: Monday, May 14, 2007. Time: 2 p.m., EST.

ADDRESSES: The Committee will meet by telephone conference call.

FOR FURTHER INFORMATION CONTACT: Catherine Davis, Executive Director, The Safe and Drug-Free Schools and Communities Advisory Committee, Room 1E110B, 400 Maryland Avenue, SW., Washington, DC, telephone: (202) 205-4169, e-mail: OSDFSC@ed.gov.

Individuals who use a telecommunications device for the deaf (TDD) may call the Federal Information Relay Service (FRS) at 1-800-877-8339, Monday through Friday between the hours of 8 a.m. and 8 p.m., Eastern Standard Time.

SUPPLEMENTARY INFORMATION: The Safe and Drug-free Schools and Communities Advisory Committee is authorized by Section 4124 of the Elementary and Secondary Education Act of 1965 (ESEA), as amended by the No Child Left Behind Act of 2001. The Committee was established to provide advice to the Secretary on Federal, State, and local programs designed to create safe and drug-free schools, and on issues related to crisis planning. The purpose of this meeting is to continue discussion on the findings and recommendations on three topics given to the Committee by the Secretary of Education: The Safe and Drug-Free Schools and Communities State Grants Program, the Unsafe School Choice Option, and data requirements under the Safe and Drug-Free Schools and Communities Act. The Committee also will discuss the format of the final report to the Secretary of Education due June 30, 2007.

There will not be an opportunity for public comment during the May 14th meeting. However, the public may listen to the conference call by calling 800-473-8796, Conference ID: 6264012. Individuals who need accommodations for a disability in order to listen to the meeting may access a TYY line by calling 800-473-8796, Conference ID: 6264012.

Request for Written Comments: We invite the public to submit written comments relevant to the focus of the Advisory Committee. We would like to receive written comments from members of the public no later than April 30, 2007. ADDRESSES: Submit all comments to the Advisory Committee using one of the following methods: 1. Internet. We encourage the public to submit comments through the Internet to the following address: OSDFSC@ed.gov. 2. Mail. The public also may submit comments via mail to Catherine Davis, Office of Safe and Drug-Free Schools, U.S. Department of Education, 400 Maryland Avenue, SW., Room 1E110B, Washington, DC 20202. Due to delays in mail delivery caused by heightened security, please allow adequate time for the mail to be received.

Records are kept of all Committee proceedings and are available for public inspection at the staff office for the Committee located at the U.S. Department of Education, 400 Maryland Avenue, SW., Room 1E110B, Washington, DC 20202 between the hours of 9 a.m. to 5 p.m. Eastern Standard Time, Monday through Friday.

Electronic Access to This Document: You may view this document, as well as all other documents of this Department published in the Federal Register, in text or Adobe Portable Document Format (PDF) on the Internet at the following site: www.ed.gov/news/federegister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: www.gpoaccess.gov/nara/index.html.

Raymond Simon,
Deputy Secretary, U.S. Department of Education.

[FR Doc. E7-8145 Filed 4-27-07; 8:45 am]

BILLING CODE 4000-01-P